DEPARTMENT OF ENERGY

Federal Energy Regulatory Commission

Combined Notice of Filings #1

Take notice that the Commission received the following electric rate filings:

Docket Numbers: ER10-1484-023; ER12-2381-009; ER13-1069-012.

Applicants: Shell Energy North America (US), L.P., MP2 Energy LLC, MP2 Energy NE LLC.

Description: Triennial Market Power Analysis for Southeast Region of Shell Energy North America (US), L.P., et. al.

Filed Date: 12/23/20.

Accession Number: 20201223-5367.

Comments Due: 5 p.m. ET 2/21/21.

Docket Numbers: ER10-2564-010; ER10-2289-010; ER10-2600-010.

Applicants: Tucson Electric Power Company, UNS Electric, Inc., UniSource Energy Development Company.

Description: Notice of Non-Material Change in Status of Tucson Electric Power Company.

Filed Date: 12/23/20.

Accession Number: 20201223-5365.

Comments Due: 5 p.m. ET 1/13/21.

Docket Numbers: ER10-2791-017; ER10-2792-017; ER19-289-006; ER10-1827-008; ER10-1575-015; ER10-2876-017; ER19-2378-001; ER19-2462-003; ER18-2264-006.

Applicants: Bayou Cove Peaking Power, LLC, Big Cajun I Peaking Power LLC, Cleco Cajun LLC, Cleco Power LLC, Cottonwood Energy Company LP, Louisiana Generating LLC, Sterlington Power LLC, Macquarie Energy LLC, Macquarie Energy Trading LLC.

Description: Updated Market Power Analysis of Bayou Cove Peaking Power, LLC, et. al.

Filed Date: 12/23/20.

Accession Number: 20201223-5374.

Comments Due: 5 p.m. ET 2/21/21.

Docket Numbers: ER12-348-007.

Applicants: Mercuria Energy America, LLC.

Description: Triennial Market Power Analysis for Southeast Region of Mercuria Energy America, LLC.

Filed Date: 12/28/20.

Accession Number: 20201228-5089.

Comments Due: 5 p.m. ET 2/26/21.

Docket Numbers: ER21-717-000.

Applicants: Hollow Road Solar, LLC.

Description: Request for Limited Waiver, et al. of Hollow Road Solar, LLC.

Filed Date: 12/22/20.

Accession Number: 20201222-5135.

Comments Due: 5 p.m. ET 1/5/21.

Docket Numbers: ER21-735-000.

Applicants: Appalachian Power Company, AEP Appalachian Transmission Company, Inc, Indiana Michigan Power Company, AEP Indiana Michigan Transmission Company, Inc., Kentucky Power Company, AEP Kentucky Transmission Company, Inc., Kingsport Power Company, AEP Ohio Transmission Company, Inc., Ohio Power Company, AEP West Virginia Transmission Company, Inc., American Electric Power Service Corporation, Wheeling Power Company, PJM Interconnection, L.L.C.

Description: § 205(d) Rate Filing: AEP submits revisions to PJM OATT Atts. H-14B and H-20B re: Depreciation Rates to be effective 1/1/2020.

Filed Date: 12/23/20.

Accession Number: 20201223-5113.

Comments Due: 5 p.m. ET 1/13/21.

Docket Numbers: ER21-736-000.

Applicants: RE Slate 1 LLC.

Description: § 205(d) Rate Filing: Petition for Order Accepting Market-Based Rate Tariff to be effective 1/25/2021.

Filed Date: 12/23/20.

Accession Number: 20201223-5115.

Comments Due: 5 p.m. ET 1/13/21.

Docket Numbers: ER21-737-000.

Applicants: Lakehurst Solar, L.L.C.

Description: Baseline eTariff Filing: Reactive Power Compensation Tariff Filing to be effective 1/1/2021.

Filed Date: 12/28/20.

Accession Number: 20201228-5022.

Comments Due: 5 p.m. ET 1/19/21.

Docket Numbers: ER21-738-000.

Applicants: Midcontinent Independent System Operator, Inc.

Description: § 205(d) Rate Filing: 2020-12-28_SA 3258 Big Rivers Electric-OSER 1st Rev GIA (J753) to be effective 12/15/2020.

Filed Date: 12/28/20.

Accession Number: 20201228-5034.

Comments Due: 5 p.m. ET 1/19/21.

Docket Numbers: ER21-739-000.

Applicants: Midcontinent Independent System Operator, Inc.

Description: § 205(d) Rate Filing: 2020-12-28_SA 3259 Big Rivers Electric-OSER 1st Rev GIA (J762) to be effective 12/15/2020.

Filed Date: 12/28/20.

Accession Number: 20201228-5044.

Comments Due: 5 p.m. ET 1/19/21.

Docket Numbers: ER21-740-000.

Applicants: Duke Energy Florida, LLC.

Description: § 205(d) Rate Filing: DEF-City of Wauchula Amended and Restated NITSA SA 150 to be effective 3/1/2021.

Filed Date: 12/28/20.

Accession Number: 20201228-5051.

Comments Due: 5 p.m. ET 1/19/21.

Docket Numbers: ER21-741-000.

Applicants: Midcontinent Independent System Operator, Inc.

Description: § 205(d) Rate Filing: 2020-12-28 SA 3291 Termination Duke Energy-Roaming Bison Renewables GIA (J754) to be effective 12/29/2020.

Filed Date: 12/28/20.

Accession Number: 20201228-5066.

Comments Due: 5 p.m. ET 1/19/21.

Docket Numbers: ER21-742-000.

Applicants: V20 Mansfield, LLC, AF1327, LLC, West Denville, LLC.

Description: Petition for Limited Waiver, et al. of V20 Mansfield, LLC, et al.

Filed Date: 12/23/20.

Accession Number: 20201223-5366.

Comments Due: 5 p.m. ET 1/13/21.

Docket Numbers: ER21-744-000.

Applicants: Wallingford Renewable Energy LLC.

Description: Baseline eTariff Filing: Wallingford Renewable Energy LLC Application for MBR Authority to be effective 1/4/2021.

Filed Date: 12/28/20.

Accession Number: 20201228-5100.

Comments Due: 5 p.m. ET 1/19/21.

Docket Numbers: ER21-745-000.

Applicants: Valley Electric Association, Inc.

Description: § 205(d) Rate Filing: Annual TRBA Filing to be effective 1/1/2021.

Filed Date: 12/28/20.

Accession Number: 20201228-5103.

Comments Due: 5 p.m. ET 1/19/21.

Docket Numbers: ER21-746-000.

Applicants: Mayflower Power & Gas LLC.

Description: Baseline eTariff Filing: Baseline new to be effective 2/1/2021.

Filed Date: 12/28/20.

Accession Number: 20201228-5119.

Comments Due: 5 p.m. ET 1/19/21.

Docket Numbers: ER21-747-000.

Applicants: PJM Interconnection, L.L.C.

Description: § 205(d) Rate Filing: Correction to Original ISA, SA No. 5622; Queue No. AF1-196 (amend) to be effective 3/10/2020.

Filed Date: 12/28/20.

Accession Number: 20201228-5189.

Comments Due: 5 p.m. ET 1/19/21.

Docket Numbers: ER21-748-000.

Applicants: System Energy Resources, Inc.

Description: § 205(d) Rate Filing: SERI UPSA Historical Credits to be effective 2/26/2021.

Filed Date: 12/28/20.

Accession Number: 20201228-5207.

Comments Due: 5 p.m. ET 1/19/21.

Docket Numbers: ER21-749-000.

Applicants: Public Service Company of Colorado.

Description: § 205(d) Rate Filing: 2020-12-28 Const & Intercon-Ault Husky 230kV-567-0.0.0 to be effective 12/29/2020.

Filed Date: 12/28/20.

Accession Number: 20201228-5215.

Comments Due: 5 p.m. ET 1/19/21.

Take notice that the Commission received the following electric securities filings:

Docket Numbers: ES21-19-000.

Applicants: Evergy Missouri West, Inc.

Description: Application Under Section 204 of the Federal Power Act for Authorization to Issue Securities for Evergy Missouri West, Inc.

Filed Date: 12/23/20.

Accession Number: 20201223-5271.

Comments Due: 5 p.m. ET 1/13/21.

Docket Numbers: ES21-20-000.

Applicants: NECEC Transmission LLC.

Description: Application under Section 204 of the Federal Power Act for Authorization to Issue Securities for NECEC Transmission LLC.

Filed Date: 12/23/20.

Accession Number: 20201223-5421.

Comments Due: 5 p.m. ET 1/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2020.
Nathaniel J. Davis, Sr.,
Deputy Secretary.

[FR Doc. 2020-29070 Filed 12-31-20; 8:45 am]

BILLING CODE 6717-01-P